DEPARTMENT OF COMMERCE

National Institute of Standards and Technology

Announcing a Meeting of the Information Security and Privacy Advisory Board

AGENCY: National Institute of Standards and Technology, Commerce.

ACTION: Notice of meeting.

SUMMARY: Pursuant to the Federal Advisory Committee Act, 5 U.S.C. App., notice is hereby given that the Information Security and Privacy Advisory Board (ISPAB) will meet Wednesday, June 4, 2008 from 1 p.m. until 5 p.m., Thursday, June 5, 2008, from 8:30 a.m. until 5 p.m., and Friday, June 6, 2008 from 8 a.m. until 4:30 p.m. All sessions will be open to the public. The Advisory Board was established by the Computer Security Act of 1987 (Pub. L. 100-235) and amended by the Federal Information Security Management Act of 2002 (Pub. L. 107-347) to advise the Secretary of Commerce and the Director of NIST on security and privacy issues pertaining to federal computer systems. Details regarding the Board's activities are available at http://csrc.nist.gov/groups/SMA/ispab/index.html/.

DATES: The meeting will be held on June 4, 2008 from 1 p.m. until 5 p.m., June 5, 2008 from 8:30 a.m. until 5 p.m. and June 6, 2008, from 8 a.m. until 4:30 p.m.

ADDRESSES: The meeting will take place at George Washington University, 1918 F Street, NW., Dining Room Conference, Washington, DC on June 4, 2008 and the George Washington University Cafritz Conference Center 800 21st Street, NW., Room 310, Elliott Room, Washington, DC on June 5-6, 2008.

FOR FURTHER INFORMATION CONTACT: Ms. Pauline Bowen, Board Secretariat, Information Technology Laboratory, National Institute of Standards and Technology, 100 Bureau Drive, Stop 8930, Gaithersburg, MD 20899-8930, telephone: (301) 975-2938.

SUPPLEMENTARY INFORMATION:

Agenda

—Welcome and Overview;

—Federal Initiatives Due in June;

( Trusted Internet Connection, Federal Desktop Core Configuration, Homeland Security Policy Directive 12, & Internet Protocol version 6);

—FISMA Report Briefing;

—FISMA Metrics Efficacy Discussion;

—Privacy Technology Report Review;

—NIST FISMA Program Phase II Discussion;

—FISMA Implementer Panel;

—CSIS Commission Briefing;

—ISPAB Work Plan Discussion;

—Telecommuting Security Discussion;

—VA Data Breach Follow-up Briefing;

—Chief Privacy Officer Training;

—Cryptographic HASH;

—Authentication of the Future—Looking Ahead To Advise NIST and OMB.

Note that agenda items may change without notice because of possible unexpected schedule conflicts of presenters. The final agenda will be posted on the Web site indicated above.

Public Participation: The Board agenda will include a period of time, not to exceed thirty minutes, for oral comments and questions from the public (Friday, June 6, 2008 at 3:15-3:45 p.m.). Each speaker will be limited to five minutes. Members of the public who are interested in speaking are asked to contact the Board Secretariat at the telephone number indicated above. In addition, written statements are invited and may be submitted to the Board at any time. Written statements should be directed to the ISPAB Secretariat, Information Technology Laboratory, 100 Bureau Drive, Stop 8930, National Institute of Standards and Technology, Gaithersburg, MD 20899-8930. Approximately 15 seats will be available for the public and media.

Dated: May 6, 2008.
James M. Turner,
Deputy Director.

[FR Doc. E8-10762 Filed 5-13-08; 8:45 am]

BILLING CODE 3510-13-P